DEPARTMENT OF COMMERCE

United States Patent and Trademark Office

Submission for OMB Review; Comment Request; “Madrid Protocol”

The United States Patent and Trademark Office (USPTO) will submit to the Office of Management and Budget (OMB) for clearance the following proposal for collection of information under the provisions of the 1995 Paperwork Reduction Act.

Agency: United States Patent and Trademark Office, Commerce.

Title: Madrid Protocol.

OMB Control Number: 0651-0051.

Form Number(s):

• PTO-1663

• PTO-1683

• PTO-2132

• PTO-2133

• TEAS Global Form

Type of Request: Regular.

Number of Respondents: 14,691 responses per year.

Average Hours Per Response: The USPTO estimates that it will take the public approximately between 20 minutes (0.33 hours) and seventy-five minutes (1.25 hours) to complete the information in this collection. This includes the time to gather the necessary information, prepare the forms or documents, and submit the completed request to the USPTO.

Burden Hours: 4878.97 hours per year.

Cost Burden: $12,182,379.50 per year.

Needs and Uses:

The public uses this collection to submit applications for international registration and related requests to the USPTO under the Madrid Protocol. The information in this collection is a matter of public record and is used by the public for a variety of private business purposes related to establishing and enforcing international trademark rights. The information is available at USPTO facilities and is also accessible through the USPTO website.

Frequency: On occasion.

Respondent's Obligation: Mandatory to Obtain or Retain Benefits

OMB Desk Officer: Nicholas A. Fraser, email: Nicholas_A._Fraser@omb.eop.gov

Once submitted, the request will be publicly available in electronic format through www.reginfo.gov. Follow the instructions to view Department of Commerce collections currently under review by OMB.

Further information can be obtained by:

• Email: InformationCollection@uspto.gov. Include “0651-00## information request” in the subject line of the message.

• Mail: Marcie Lovett, Records and Information Governance Branch Chief, Office of the Chief Technology Officer, United States Patent and Trademark Office, P.O. Box 1450, Alexandria, VA 22313-1450.

Written comments and recommendations for the proposed information collection should be sent on or before March 28, 2019 to Nicholas A. Fraser, OMB Desk Officer, via email to Nicholas_A._Fraser@omb.eop.gov, or by fax to 202-395-5167, marked to the attention of Nicholas A. Fraser.

Marcie Lovett,
Chief, Records and Information Governance Branch, Office of the Chief Administrative Officer, USPTO.

[FR Doc. 2019-03224 Filed 2-25-19; 8:45 am]

BILLING CODE 3510-16-P